DEPARTMENT OF ENERGY

Federal Energy Regulatory Commission

[Docket No. CP01-160-000]

Northwest Alaskan Pipeline Company; Notice of Application for Permission and Approval To Abandon Sale of Natural Gas

May 2, 2001.

Take notice that Northwest Alaskan Pipeline Company (Northwest Alaskan) on April 17 2001 filed an application pursuant to section 7(b) of the Natural Gas Act, 15 U.S.C. 717f(b); section 9 of the Alaska Natural Gas Transportation Act (ANGTA), 15 U.S.C. 719g; and Part 157 of the Commission's regulations, 18 CFR part 157, seeking the Commission's permission and approval to abandon Northwest Alaskan's jurisdictional sales of up to 800,000 Mcf per day of natural gas to Pan-Alberta Gas (U.S.) Inc. (PAGUS). Northwest Alaskan states that it presently sells Canadian gas to PAGUS at the United States-Canada border under three gas purchase agreements that Northwest Alaskan executed as part of the contractual arrangements for construction of the Eastern Leg “prebuild” of the Alaska Natural Gas Transportation System (ANGTS) and which, with the Commission's approval, were assigned to PAGUS in 1989, 1992 and 1993.

Northwest Alaskan further states that Northwest Alaskan and PAGUS have entered into agreements to terminate their gas purchase agreements, subject to receipt of all necessary regulatory approvals. Northwest Alaskan also states that implementation of the overall transaction will require approval of the proposed abandonment, termination of Northwest Alaskan's tariff, certain consents from third parties and execution of certain additional documents. To accommodate these arrangements, Northwest Alaskan requests that the Commission authorize the requested abandonment to be effective on the day after the day on which the parties close their transaction. Northwest Alaskan states that the parties anticipate closing the transaction on or before May 15, 2001, and that Northwest Alaskan will notify the Commission when the closing has occurred.

Northwest Alaskan states that it is serving copies of the instant application on its affected customers. This filing may be viewed on the web at http://www.ferc.fed.us/online/rims.htm (call 202-208-2222 for assistance).

Any questions regarding the application should be directed to Michael Thompson at (202) 393-20005, Northwest Alaskan Pipeline Company c/o Wright & Talisman, P.C. 1200 G Street, N.W. Suite 600 Washington, D.C. 20005.

There are two ways to become involved in the Commission's review of this project. First, any person wishing to obtain legal status by becoming a party to the proceedings for this project should, on or before May 22, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding.

Only parties to the proceeding can ask for court review of Commission orders in the proceeding. However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Also, comments protests, and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-11477 Filed 5-7-01; 8:45 am]

BILLING CODE 6717-01-M